DEPARTMENT OF DEFENSE

Office of the Secretary

Defense Advisory Committee on Military Personnel Testing

AGENCY: Under Secretary of Defense for Personnel and Readiness, DoD.

ACTION: Notice; Defense Advisory Committee on military personnel testing.

SUMMARY: Pursuant to Public Law 92-463, notice is hereby given that a meeting of the Defense Advisory Committee on Military Personnel Testing is scheduled to be held. The purpose of the meeting is to review planned changes and progress in developing computerized and paper-and-pencil enlistment tests.

DATES: June 2, 2005, from 8 a.m. to 5 p.m., and June 3, 2004, from 8 a.m. to 5 p.m.

ADDRESSES: The meeting will be held at the Williamsburg Hospitality House Hotel & Conference Center, 415 Richmond Road, Williamsburg, Virginia.

FOR FURTHER INFORMATION CONTACT: Dr. Jane M. Arabian, Assistant Director, Accession Policy, Office of the Under Secretary of Defense (Personnel and Readiness), Room 2B271, The Pentagon, Washington, DC 20301-4000, telephone (703) 697-9271.

SUPPLEMENTARY INFORMATION: Persons desiring to make oral presentations or submit written statements for consideration at the Committee meeting must contact Dr. Jane M. Arabian at the address or telephone number above no later than May 25, 2005.

Dated: May 19, 2005.
Jeannette Owings-Ballard,
OSD Federal Register Liaison Officer, Department of Defense.

[FR Doc. 05-10382 Filed 5-24-05; 8:45 am]

BILLING CODE 5001-06-P